DEPARTMENT OF LABOR

Employment and Training Administration

[TA-W-57,427]

Pomeroy Computer Resources, Macon, Georgia; Notice of Termination of Investigation

Pursuant to section 221 of the Trade Act of 1974, an investigation was initiated on June 21, 2005, in response to petition filed on behalf of workers at Pomeroy Computer Resources, Macon, Georgia.

The petitioner has requested that the petition be withdrawn. Consequently, the investigation has been terminated.

Signed in Washington, DC, this 11th day of July, 2005.
Richard Church,
Certifying Officer, Division of Trade Adjustment Assistance.

[FR Doc. E5-4299 Filed 8-8-05; 8:45 am]

BILLING CODE 4510-30-P